DEPARTMENT OF COMMERCE

Minority Business Development Agency

Submission for OMB Review; Comment Request

The Department of Commerce will submit to the Office of Management and Budget (OMB) for clearance the following proposal for collection of information under the provisions of the Paperwork Reduction Act (44 U.S.C. Chapter 35).

Agency: Minority Business Development Agency.

Title: Online Customer Relationship Management (CRM)/Performance Database.

OMB Control Number: 0640-0002.

Form Number(s): 0640-002.

Type of Request: Regular Submission.

Number of Respondents: 2,633.

Average Hours per Response: 1 to 210 minutes depending upon function.

Burden Hours: 4,516.

Needs and Uses: This request is for a revision with a change to a current information collection. This collection involves the inclusion of a new group of federal financial assistance recipients. In Fiscal Year 2018, MBDA incorporated grants into the service delivery model for the agency. The client transaction and verification forms in use for the business center program may also be used to collect information about the effectiveness of other grant programs funded by the agency. The forms include a statement regarding MBDA's intended use by MBDA and transfer of the information collected to other federal agencies to allow for research studies on minority businesses. The form itself has not been revised but will be used by the new recipients. As part of its national service delivery system, MBDA awards cooperative agreements each year to fund the provision of business development services to eligible minority business enterprises (MBEs). The recipient of each cooperative agreement or grant is competitively selected to operate one of the following programs: (1) An MBDA Business Center; (2) an American Indian Alaska Native Native Hawaiian) (AIANNH) Center, or (most recently) (3) a broad agency grants. In accordance with the Government Performance Results Act (GPRA), MBDA requires all program grant recipients to report basic client information, service activities and progress on attainment of program goals via the online CRM/Performance Databases. The data collected through the Online CRM/Performance Databases is used to regularly monitor and evaluate the progress of MBDA's funded programs, to provide the Department and OMB with a summary of the quantitative information that it requires about government supported programs, and to implement the GPRA. This information may be summarized and included in an annual report, which may be made available to the public, or used to support federal government research studies regarding minority business development issues.

Affected Public: Individuals or households; Business or other for-profit organizations; Not-for-profit institutions; State, Local, or Tribal government; Federal government.

Frequency: On occasion, semi-annually, annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-08967 Filed 5-1-19; 8:45 am]

BILLING CODE 3510-21-P